DEPARTMENT OF AGRICULTURE

Forest Service

Helena National Forest, Montana, Stonewall Vegetation Project

AGENCY: Forest Service, USDA.

ACTION: Notice of intent to prepare an environmental impact statement.

SUMMARY: The Helena National Forest is going to prepare an environmental impact statement for vegetation management actions north and west of the community of Lincoln, MT. Fire suppression and moist growing conditions through much of this century resulted in a loss of open forest conditions and seral species (aspen, ponderosa pine and western larch). This has created a more uniform landscape comprised of dense forests susceptible to insect and wildfire mortality (Douglas-fir and lodgepole pine). In addition, a large-scale mountain pine beetle epidemic has killed most of the mature lodgepole pine and ponderosa pine. These conditions are elevating fuel levels which pose a wildfire threat to nearby homes and communities in the wildland urban interface (WUI).

DATES: Comments concerning the scope of the analysis must be received by February 12, 2010. The draft environmental impact statement is expected August 2010 and the final environmental impact statement is expected January 2011.

ADDRESSES: Send written comments to Amber Kamps, Helena National Forest, 1569 Hwy. 200, Lincoln, MT 59639. Comments may also be sent via e-mail to comments-northern-Helena@fs.fed.us, or via facsimile to 406-449-5436.

It is important that reviewers provide their comments at such times and in such a way that they are useful to the Agency's preparation of the EIS. Therefore, comments should be provided prior to the close of the comment period and should clearly articulate the reviewer's concerns and contentions.

Comments received in response to this solicitation, including names and addresses of those who comment, will be part of the public record for this proposed action. Comments submitted anonymously will be accepted and considered, however.

FOR FURTHER INFORMATION CONTACT: Amber Kamps at 406-362-7000.

Individuals who use telecommunication devices for the deaf (TDD) may call the Federal Information Relay Service (FIRS) at 1-800-877-8339 between 8 a.m. and 8 p.m., Eastern Time, Monday through Friday.

SUPPLEMENTARY INFORMATION:

Purpose and Need for Action

The landscape in this project area has become a more uniform dense forest susceptible to insect and wildfire mortality. The mountain pine beetle has caused widespread tree mortality. These conditions have elevated the fuel levels, which in turn pose a threat to nearby homes and communities in the wildland urban interface. The purpose and need for this project includes: improving the mix of vegetation and structure across the landscape so that it is diverse, resilient, and sustainable to wildfire and insects; modifying fire behavior to enhance community protection while creating conditions that allow the reestablishment of fire as a natural process on the landscape; enhancing and restoring aspen, western larch and ponderosa pine species and habitats; utilizing the economic value of trees through removal; and integrating restoration with socioeconomic considerations.

Proposed Action

Approximately 8,600 acres are proposed for treatment. The proposed action includes using both commercial and noncommercial treatments to achieve the desired condition. These actions would include: Regeneration harvests, intermediate harvests, precommercial thinnings, and prescribed burning. Implementing the proposed action could include the use of chainsaws, feller bunchers, and cable logging equipment.

The proposed action also includes using prescribed fire and tree slashing in two roadless areas (Bear Marshall Scapegoat Swan and Lincoln Gulch).

Approximately five miles of road would be built then obliterated immediately following timber removal. Commercial harvest and road construction would not occur in the two roadless areas.

Post treatment activities would include underburning, site preparation burning, jackpot burning, hand piling/burning, tree planting, and monitoring of natural regeneration.

In all the areas proposed, the opening size may exceed 40 acres due to the amount of mortality created by the bark beetles and the resulting need for regeneration.

Responsible Official

Helena National Forest Supervisor.

Nature of Decision To Be Made

The decisions to be made include: Whether to implement the proposed action or an alternative to the proposed action, what monitoring requirements would be appropriate to evaluate the implementation of this project, and whether a forest plan amendment would be necessary as a result of the decision for this project.

Scoping Process

This notice of intent initiates the scoping process, which guides the development of the environmental impact statement. In January 2010, a scoping package will be mailed, an open house will be scheduled, and Web site information will be posted.

It is important that reviewers provide their comments at such times and in such manner that they are useful to the agency's preparation of the environmental impact statement. Therefore, comments should be provided prior to the close of the comment period and should clearly articulate the reviewer's concerns and contentions. The submission of timely and specific comments can affect a reviewer's ability to participate in subsequent administrative appeal or judicial review.

Dated: January 6, 2010.
Kevin T. Riordan,
Forest Supervisor.

[FR Doc. 2010-452 Filed 1-12-10; 8:45 am]

BILLING CODE 3410-11-P